DEPARTMENT OF ENERGY

Environmental Management Site-Specific Advisory Board, Savannah River

AGENCY: Department of Energy.

ACTION: Notice of open meeting.

SUMMARY: This notice announces a meeting of the Environmental Management Site-Specific Advisory Board (EM SSAB), Savannah River. The Federal Advisory Committee Act (Pub. L. No. 92-463, 86 Stat. 770) requires that public notice of these meetings be announced in the Federal Register.

DATES: Monday, November 17, 2003, 1 p.m.-6 p.m.; Tuesday, November 18, 2003, 8:30 a.m.-4 p.m.

ADDRESSES: Embassy Suites, 5055 International Boulevard, North Charleston, SC 29418.

FOR FURTHER INFORMATION CONTACT: deLisa Bratcher, Closure Project Office, Department of Energy, Savannah River Operations Office, P.O. Box A, Aiken, SC 29802; Phone: (803) 952-8607.

SUPPLEMENTARY INFORMATION: Purpose of the Board: The purpose of the Board is to make recommendations to DOE and its regulators in the areas of environmental restoration, waste management, and related activities.

Tentative Agenda:

Monday, November 17, 2003

1 p.m.—Combined Committee Session

5:15 p.m.—Executive Committee Meeting

6 p.m.—Adjourn

Tuesday, November 18, 2003

8:30-9:15 a.m.—Approval of Minutes; Agency Updates; Public Comment Session; Chair and Facilitator Update

9:15-9:45 a.m.—Facilities Disposition & Site Remediation Committee Report

9:45-10:15 a.m.—Nuclear Materials Committee Report

10:15-11:45 a.m.—Strategic & Legacy Management Committee Report

11:45-12 noon—Public Comments

12 noon—Lunch Break

1-2 p.m.—Strategic & Legacy Management Committee Report

2-4 p.m.—Administrative Committee Report

—Leadership Elections

—Presentation of 2004 Candidates

3:45-4 p.m.—Public Comments

4 p.m.—Adjourn

If needed, time will be allotted after public comments for items added to the agenda, and administrative details. A final agenda will be available at the meeting Monday, November 17, 2003.

Public Participation: The meeting is open to the public. Written statements may be filed with the Board either before or after the meeting. Individuals who wish to make the oral statements pertaining to agenda items should contact Gerri Flemming's office at the address or telephone listed above. Requests must be received five days prior to the meeting and reasonable provision will be made to include the presentation in the agenda. The Deputy Designated Federal Officer is empowered to conduct the meeting in a fashion that will facilitate the orderly conduct business. Each individual wishing to make public comment will be provided equal time to present their comments.

Minutes: The minutes of this meeting will be available for public review and copying at the Freedom of Information Public Reading Room, 1E-190, Forrestal Building, 1000 Independence Avenue SW., Washington, DC 20585 between 9 a.m. and 4 p.m., Monday through Friday, except Federal holidays. Minutes will also be available by writing to deLisa Bratcher, Department of Energy Savannah River Operations Office, PO Box A, Aiken, SC 29802, or by calling her at (803) 952-8607.

Issued at Washington, DC, on October 24, 2003.
Rachel M. Samuel,
Deputy Advisory Committee Management Officer.

[FR Doc. 03-27232 Filed 10-28-03; 8:45 am]

BILLING CODE 6450-01-P